DEPARTMENT OF TRANSPORTATION

Federal Motor Carrier Safety Administration

[Docket No. FMCSA-2017-0058]

Qualification of Drivers; Exemption Applications; Hearing

AGENCY: Federal Motor Carrier Safety Administration (FMCSA), DOT.

ACTION: Notice of applications for exemption; request for comments.

SUMMARY: FMCSA announces receipt of applications from 91 individuals for an exemption from the hearing requirement in the Federal Motor Carrier Safety Regulations (FMCSRs) to operate a commercial motor vehicle (CMV) in interstate commerce. If granted, the exemptions would enable these hard of hearing and deaf individuals to operate CMVs in interstate commerce.

DATES: Comments must be received on or before November 13, 2017.

ADDRESSES: You may submit comments bearing the Federal Docket Management System (FDMS) Docket No. FMCSA-2016-0004 using any of the following methods:

• Federal eRulemaking Portal: Go to http://www.regulations.gov. Follow the online instructions for submitting comments.

• Mail: Docket Management Facility, U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., ET, Monday through Friday, except Federal Holidays.

• Fax: 1-202-493-2251.

Instructions: Each submission must include the Agency name and the docket number(s) for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., ET, Monday through Friday, except Federal holidays. The FDMS is available 24 hours each day, 365 days each year. If you want acknowledgment that we received your comments, please include a self-addressed, stamped envelope or postcard or print the acknowledgement page that appears after submitting comments online.

Privacy Act: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

FOR FURTHER INFORMATION CONTACT: Ms. Christine A. Hydock, Chief, Medical Programs Division, (202) 366-4001, fmcsamedical@dot.gov, FMCSA, Department of Transportation, 1200 New Jersey Avenue SE., Room W64-224, Washington, DC 20590-0001. Office hours are 8:30 a.m. to 5 p.m., ET, Monday through Friday, except Federal holidays. If you have questions regarding viewing or submitting material to the docket, contact Docket Services, telephone (202) 366-9826.

SUPPLEMENTARY INFORMATION:

I. Background

Under 49 U.S.C. 31136(e) and 31315, FMCSA may grant an exemption from the FMCSRs for a five-year period if it finds “such exemption would likely achieve a level of safety that is equivalent to or greater than the level that would be achieved absent such exemption.” The statute also allows the Agency to renew exemptions at the end of the five-year period. FMCSA grants exemptions from the FMCSRs for a two-year period to align with the maximum duration of a driver's medical certification.

The 91 individuals listed in this notice have requested an exemption from the hearing requirement in 49 CFR 391.41(b)(11). Accordingly, the Agency will evaluate the qualifications of each applicant to determine whether granting the exemption will achieve the required level of safety mandated by statute.

The physical qualification standard for drivers regarding hearing found in 49 CFR 391.41(b)(11) states that a person is physically qualified to drive a CMV if that person:

First perceives a forced whispered voice in the better ear at not less than 5 feet with or without the use of a hearing aid or, if tested by use of an audiometric device, does not have an average hearing loss in the better ear greater than 40 decibels at 500 Hz, 1,000 Hz, and 2,000 Hz with or without a hearing aid when the audiometric device is calibrated to American National Standard (formerly ASA Standard) Z24.5—1951.

This standard was adopted in 1970 and was revised in 1971 to allow drivers to be qualified under this standard while wearing a hearing aid, 35 FR 6458, 6463 (April 22, 1970) and 36 FR 12857 (July 3, 1971).

On February 1, 2013, FMCSA announced in a Notice of Final Disposition titled, Qualification of Drivers; Application for Exemptions; National Association of the Deaf, (78 FR 7479), its decision to grant requests from 40 individuals for exemptions from the Agency's physical qualification standard concerning hearing for interstate CMV drivers. Since the February 1, 2013 notice, the Agency has published additional notices granting requests from hard of hearing and deaf individuals for exemptions from the Agency's physical qualification standard concerning hearing for interstate CMV drivers.

II. Qualifications of Applicants

Mario Alvarado: Mr. Alvarado, age 28, holds an operator's license in California.

Shey C. Amberson: Mr. Amberson, age 39, holds an operator's license in Florida.

Kasseth Andrews: Mr. Andrews, age 33, holds an operator's license in Massachusetts.

Steven Andrews: Mr. Andrews, age 33, holds an operator's license in Florida.

Randy Bailey: Mr. Bailey, age 36, holds an operator's license in New Jersey.

Ivan Batista: Mr. Batista, age 36, holds an operator's license in New Jersey.

Larry G. Beeson: Mr. Beeson, age 75, holds a class B CDL in North Carolina.

Deontae Blanks: Mr. Blanks, age 34, holds an operator's license in Texas.

Daryl A. Broker: Mr. Broker, age 63, holds a class A CDL in Minnesota.

Justin Brooks: Mr. Brooks, age 37, holds an operator's license in Washington.

Daniel Camp: Mr. Camp, age 28, holds an operator's license in Georgia.

Joseph Caplan: Mr. Caplan, age 67, holds a class A CDL in Connecticut.

Vincente Carreon: Mr. Carreon, age 55, holds a class A CDL in Texas.

Richard N. Casto: Mr. Casto, age 49, holds an operator's license in Ohio.

Blair D. Chappell: Mr. Chappell, age 35, holds an operator's license in Pennsylvania.

Christa B. Coppley: Ms. Coppley, age 43, holds an operator's license in North Carolina.

Leslie Crump: Mr. Crump, age 43, holds an operator's license in Indiana.

William Darnell: Mr. Darnell, age 43, holds a class A CDL in Arizona.

Travis K. Davisson: Mr. Davisson, age 43, holds a class A CDL in Iowa.

Sean M. Dearsman: Mr. Dearsman, age 39, holds an operator's license in Ohio.

Shane DiBernado: Mr. DiBernado, age 22, holds an operator's license in Colorado.

James Edmonson: Mr. Edmonson, age 35, holds an operator's license in Louisiana.

Gary Effner: Mr. Effner, age 46, holds an operator's license in Massachusetts.

Mitchell R. Estill: Mr. Estill, age 41, holds an operator's license in Missouri.

Jeremy Exum: Mr. Exum, age 41, holds an operator's license in Texas.

William F. Farrell: Mr. Farrell, age 59, holds an operator's license in Wisconsin.

Lucius Fowler: Mr. Fowler, age 44, holds an operator's license in Illinois.

Bruce Francechi: Mr. Francechi, age 52, holds an operator's license in New York.

Buddy Gann: Mr. Gann, age 39, holds an operator's license in Indiana.

Blanca Gerardo: Mr. Gerardo, age 43, holds an operator's license in Texas.

Teela Gilmore: Ms. Gilmore, age 41, holds an operator's license in Georgia.

Douglas M. Gray: Mr. Gray, age 56, holds a class A CDL in Oregon.

John Grebenc: Mr. Grebenc, age 45, holds a class A CDL in Minnesota.

Kimberly Gumm: Ms. Gumm, age 56, holds a Class A CDL in Indiana.

Conrad Hause: Mr. Hause, age 36, holds an operator's license in Maryland.

John Hayt, III: Mr. Hayt, age 30, holds an operator's license in Florida.

Raymond E. Henk: Mr. Henk, age 46, holds an operator's license in Texas.

Jorge L. Hernandez: Mr. Hernandez, age 27, holds an operator's license in Texas.

Andrew J. Hippler: Mr. Hippler, age 43, holds a class A CDL in Idaho.

Charles Holbrook: Mr. Holbroon, age 47, holds a class A CDL in Maryland.

Paul Hoover: Mr. Hoover, age 30, holds a class A CDL in Pennsylvania.

Buford G. Hudson: Mr. Hudson, age 50, holds an operator's license in Kentucky.

Thomas Jensen: Mr. Jensen, age 55, holds a class A CDL in Iowa.

Charles J. Jernigan, Jr.: Mr. Jernigan, age 54, holds an operator's license in South Carolina.

James M. Johnson: Mr. Johnson, age 46, holds a class A CDL in Minnesota.

Matthew Jones: Mr. Jones, age 43, holds an operator's license in California.

Ronald L. Jones: Mr. Jones, age 61, holds an operator's license in Oklahoma.

Wayne A. Kramas: Mr. Kramas, age 53, holds an operator's license in Wisconsin.

Daniel Krystosek: Mr. Krystosek, age 25, holds a class A CDL in Minnesota.

Nicholas Kulasa: Mr. Kulasa, age 32, holds an operator's license in Illinois.

Ryan R. Larkin: Mr. Larkin, age 35, Holds an operator's license in Massachusetts.

Aaron S. Leader: Mr. Leader, age 36, holds an operator's license in Arizona.

Brian Levinson: Mr. Levinson, age 50, holds an operator's license in Florida.

Benjamin Lockwood: Mr. Lockwood, age 27, holds an operator's license in Texas.

Stephen O. Lothamer: Mr. Lothamer, age 55, holds a class A CDL in Michigan.

Pete Love, Jr.: Mr. Love, age 43, holds an operator's license in Nebraska.

John R. Martikainen: Mr. Martikainen, age 38, holds an operator's license in Connecticut.

Cory McDaniel: Mr. McDaniel, age 29, holds an operator's license in Pennsylvania.

Jamarques McMahon: Mr. McMahon, age 24, holds an operator's license in Texas.

Ty McRae: Mr. McRae, age 23, holds an operator's license in Georgia.

David W. Morgan: Mr. Morgan, age 47, holds an operator's license in Idaho.

Coltin Mueller: Mr. Mueller, age 21, holds an operator's license in Wisconsin.

Eddie P. Naquin: Mr. Naquin, age 47, holds an operator's license in Texas.

Ernest O. Noel: Mr. Noel, age 41, holds an operator's license in Indiana.

Robert C. Oliver: Mr. Oliver, age 45, holds a class A CDL in Washington.

Tim S. Oyler: Mr. Oyler, age 48, holds a class A CDL in Utah.

Douglas Pfueger: Mr. Pfueger, age 52, holds an operator's license in Missouri.

Charles L. Pitt: Mr. Pitt, age 53, holds an operator's license in Alabama.

Jonathan Pitts: Mr. Pitts, age 47, holds an operator's license in Maryland.

Robert F. Quintero: Mr. Quintero, age 62, holds an operator's license in Illinois.

Jonathan Ramos: Mr. Ramos, age 30, holds an operator's license in Nebraska.

James E. Redmond: Mr. Redmond, age 43, holds an operator's license in Illinois.

Lucas Robinson: Mr. Robinson, age 37, holds an operator's license in Ohio.

David Rowe: Mr. Rowe, age 41, holds an operator's license in Colorado.

Dustin Sargent: Mr. Sargent, age 31, holds an operator's license in Texas.

Carl Seabough: Mr. Seabough, age 46, Holds an operator's license in Florida.

Johnny Seng: Mr. Seng, age 22, holds an operator's license in Rhode Island.

Michael Singleton: Mr. Singleton, age 44, holds an operator's license in Texas.

Marshall Smith: Mr. Smith, age 32, holds an operator's license in Texas.

Lonnie D. Stockton: Mr. Stockton, age 52, holds an operator's license in Texas.

Robert S. Swafford: Mr. Swafford, age 31, holds an operator's license in Oklahoma.

Michael N. Swetnam: Mr. Swetnam, age 63, holds a class A CDL in Texas.

Courtney D. Turner: Ms. Turner, age 38, holds a class A CDL in Virginia.

Corey Twombly: Mr. Twombly, age 27, holds an operator's license in New York.

Gary Wallace: Mr. Wallace, age 60, holds a class A CDL in North Carolina.

James R. Wilson: Mr. Wilson, age 40, holds an operator's license in Mississippi.

Melanie Wilson: Ms. Wilson, age 53, holds an operator's license in Texas.

Ricky M. Winslow: Mr. Winslow, age 56, holds a class A CDL in Michigan.

Jerry E. Wright: Mr. Wright, age 63, holds a class A CDL in North Carolina.

Kedir Yimamu: Mr. Yimamu, age 34, holds an operator's license in Virginia.

Edward J. Zozaya: Mr. Zozaya, age 34, holds an operator's license in Arizona.

Request for Comments

In accordance with 49 U.S.C. 31136(e) and 31315, FMCSA requests public comment from all interested persons on the exemption petitions described in this notice. We will consider all comments received before the close of business on the closing date indicated in the dates section of the notice.

III. Submitting Comments

You may submit your comments and material online or by fax, mail, or hand delivery, but please use only one of these means. FMCSA recommends that you include your name and a mailing address, an email address, or a phone number in the body of your document so that FMCSA can contact you if there are questions regarding your submission.

To submit your comment online, go to http://www.regulations.gov and in the search box insert the docket number FMCSA-2016-0004 and click the search button. When the new screen appears, click on the blue “Comment Now!” button on the right hand side of the page. On the new page, enter information required including the specific section of this document to which each comment applies, and provide a reason for each suggestion or recommendation. If you submit your comments by mail or hand delivery, submit them in an unbound format, no larger than 8½ by 11 inches, suitable for copying and electronic filing. If you submit comments by mail and would like to know that they reached the facility, please enclose a stamped, self-addressed postcard or envelope.

We will consider all comments and materials received during the comment period. FMCSA may issue a final determination any time after the close of the comment period.

IV. Viewing Comments and Documents

To view comments, as well as any documents mentioned in this preamble, go to http://www.regulations.gov and in the search box insert the docket number FMCSA-2016-0004 and click “Search.” Next, click “Open Docket Folder” and you will find all documents and comments related to this notice.

Issued on: October 2, 2017.
Larry W. Minor,
Associate Administrator for Policy.

[FR Doc. 2017-21896 Filed 10-10-17; 8:45 am]

BILLING CODE 4910-EX-P